DEPARTMENT OF TRANSPORTATION

Federal Aviation Administration

14 CFR Part 73

[Docket No. FAA-2016-8927; Airspace Docket No. 15-ANM-24]

Establishment of Restricted Area R-2603; Fort Carson, CO

AGENCY: Federal Aviation Administration (FAA), DOT.

ACTION: Final rule.

SUMMARY: This action establishes restricted area R-2603 within the existing Fort Carson, CO, Pinon Canyon Maneuver Site (PCMS), near Trinidad, CO. The U.S. Army requires additional restricted airspace because the restricted area ranges at Fort Carson are not large enough to meet all training requirements. R-2603 will provide increased ground-to-air, air-to-ground, and air-to-air battle space to increase training capacity and relieve training congestion at Fort Carson.

DATES:

Effective date: 0901 UTC, December 7, 2017.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for this Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, part A, Subpart I, Section 40103. Under that section, the FAA is charged with prescribing regulations to assign the use of the airspace necessary to ensure the safety of aircraft and the efficient use of airspace. This regulation is within the scope of that authority as it establishes the restricted area airspace at Fort Carson, CO, to accommodate essential Army training requirements and ensure the safety of aircraft otherwise permitted to overfly the location established for Army training.

History

The FAA published in the Federal Register a notice of proposed rulemaking (NPRM) (81 FR 62847, September 13, 2016), Docket No. FAA-2016-8927, to establish restricted area R-2603 to support hazardous training activities conducted within the Pinon Canyon Maneuver Site (PCMS), a military training site for Fort Carson.

Interested parties were invited to participate in this rulemaking effort by submitting written comments on the proposal. Two comments were received, one from the Aircraft Owners and Pilots Association (AOPA) and one supporting the establishment of the airspace to support military training.

Discussion of Comments

In their response to the NPRM, AOPA raised several substantive issues. AOPA contended the proposed airspace design would have a negative impact on general aviation aircraft highlighting four main areas of concern: Impacts to Instrument Flight Rules (IFR) aircraft; impacts to Visual Flight Rules (VFR) aircraft; charting the restricted area; and times of use. Having considered the issues provided by AOPA, the FAA offers the following responses.

Impacts to Instrument Flight Rules (IFR) Aircraft

AOPA is concerned with two airways (V-81 and V-169) being effected by the establishment of R-2603. The two airways are within the restricted area boundary from the surface to 10,000 feet MSL. AOPA stated general aviation aircraft must routinely operate IFR at lower altitudes to stay out of icing and due to performance limitations and requiring an aircraft to fly several thousand more feet than is currently required, staying above R-2603's ceiling, could impact general aviation's ability to transit these airways when the restricted area is active. Additionally, AOPA is concerned with feeder route for the Perry Stokes Airport (TAD) RNAV (GPS) RWY 21 instrument approach.

The FAA recognizes the impact to general aviation aircraft and has modified the proposal to minimize the impact to allow complete access to V-169. Additionally, should aircraft encounter icing conditions that would require them to descend to altitudes encompassed by the proposed restricted area, Denver ARTCC would coordinate with the Using Agency and those altitudes would be released.

The FAA recognizes the RNAV (GPS) RWY 21 instrument approach into TAD airport from BLOOM initial approach fix would be unusable when the restricted area is activated. However, RADIO initial approach fix is unencumbered by the restricted area less than 10 NMs away. An aircraft can initiate the approach from this fix or be vectored to intercept the radial inbound from RADIO with minimal impact to general aviation aircraft.

Impacts to Visual Flight Rules (VFR) Aircraft

AOPA stated pilots flying under VFR routinely follow prominent railroads and highways to get to their destination. US Route 350 and a parallel railroad proceed from TAD to La Junta Municipal Airport (LHX). Following this route would keep a pilot clear of the restricted area; however, the western boundary point is uncomfortably close for many pilots to utilize this route without proceeding unnecessarily north of the road and tracks.

The FAA has determined that only the most northwest point of the proposed restricted area is close to US Route 350. The closest point for this momentary instance is .12 NM from US 350 and .20 NM from the railroad tracks. VFR aircraft flying over either of these reference points would be clear of the proposed restricted area's closest point. Beyond this point, the distance from the proposed restricted area increases rapidly in both directions. Aircraft utilizing these ground reference points would have a clear boundary identifying they are clear of the restricted area. As long as the aircraft remain over the highway or train tracks, the restricted airspace will not be violated.

Charting of the Restricted Area

AOPA requested the activation of the new restricted area should occur concurrently or after the charting of the airspace on the Denver and Wichita Sectional Charts. Additionally, the FAA should make the effective date of restricted area airspace coincide with the sectional chart cycle so that pilots have the latest information and a graphical depiction of the change. Lastly, the instrument approach procedures to airports in proximity to R-2603 should be updated to graphically depict the new restricted area to increase situational awareness for instrument pilots. Similar to the Pinon Canyon Military Operations Area (MOA) being charted on the procedures into LHX, the restricted area and MOA should be added to TAD's approach and departure procedures.

The FAA concurs with AOPA and will make the new restricted area effective in accordance with guidance to chart on a 56-day cycle, which is December 7, 2017. However, the FAA has mandated to the proponent that it will not be utilized until the Wichita and Denver VFR sectionals are updated January 4, 2018. Lastly, the FAA will ensure the approach and departure procedures are updated.

Times of Use

AOPA stated, as part of the Colorado Airspace Initiative, the Pinon Canyon MOA (within which R-2306 will be located) had its boundaries modified in December 1999. The airspace circular for the modification (Air Traffic Division Letter to Airmen No. 98-03; Study No. 98-ANM-001-NR) stated the MOA “would not be scheduled for use between 10:00 p.m. and 7:00 a.m. local.” The Final Environmental Impact Statement (FEIS) states Pinon Canyon MOA's utilization is “low” and that in 2012 had only eight days of activation. AOPA is concerned the proponent's intention may be to activate the existing MOA whenever the restricted area is in use. This issue is not addressed in the FEIS or in the NPRM. The NPRM for the restricted area states, “the area would be required to support approximately five training cycles per year with the longest duration of each cycle being approximately four to five weeks,” AOPA believes the previous statements made in the Letter to Airmen to limit utilization of the MOA may not be honored. AOPA commented that the proponent should continue the overnight embargo on the MOA's utilization and should only activate the MOA when it is explicitly needed to support operations. According to the comment, activating the MOA continuously for five weeks would not be responsible management of the airspace and would have a considerable impact on civil aviation in the area.

The FAA has changed the times of use of Pinon Canyon MOA to “Intermittent by NOTAM 0700 to 2200, daily.” This change ensures the December 1999 amendment is followed as stated in the circular. Additionally, the restricted area time of designation has been amended to “By NOTAM 24 Hours in Advance.”

Differences From the NPRM

Subsequent to publication of the NPRM, it was requested by the FAA charting team to change the order of the lat./long. coordinates to a clockwise direction vice a counter clockwise direction for ease of charting. Additionally, in response to a comment from AOPA, the FAA identified a geographic lat./long. coordinate which was relocated to ensure ample separation from airway V-169. The following restricted area update is incorporated in this action.

The geographic lat./long. coordinates are reversed for a clockwise listing of lat./long. coordinates. Additionally, the geographic lat./long. coordinate for the point located in the northeast corner of R-2603 has been relocated, so as to not impact use of the airway.

The Rule

The FAA is amending Title 14 Code of Federal Regulations (14 CFR) part 73 to establish a new restricted area R-2603 at the Pinon Canyon Maneuver Site, near Trinidad, CO. The FAA is also incorporating the restricted area updates noted in the Differences from the NPRM section. The FAA is taking this action to ensure realistic Army training which provides increased ground-to-air, air-to-ground, and air-to-air battle space to increase training capacity and relieve training congestion at Fort Carson. The changes from what was proposed in the NPRM are as follows:

R-2603: The geographic coordinate proposed as “lat. 37°38′33″ N., long. 103°35′11″ W.” in the boundaries description is deleted and replaced by a point identified as “lat. 37°38′28″ N., long. 103°42′40″ W.” The legal description of R-2603 was changed from a counter clockwise direction to a clockwise direction.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing restricted area R-2603 within the existing Fort Carson, CO, Pinon Canyon Maneuver Site (PCMS), near Trinidad, CO, qualifies for FAA adoption in accordance with FAA Order 1050.1F, paragraphs 8-2 and 9-2, Adoption of Other Agencies' National Environmental Policy Act Documents, and Written Re-evaluations, and 7400.2L, paragraph 32-2-3. The purpose of creating and utilizing the Restricted Area (RA) is to allow for increased ground-to-air, air-to-ground, and air-to-air battle space to increase training capacity and relieve training congestion at Fort Carson. The FAA, after conducting an independent review and evaluation of the United States Army's Final Environmental Impact Statement of the Pinon Canyon Maneuver Site Training and Operations (EIS) and Record of Decision (ROD) for Restricted Area R-2603 at Fort Carson, CO, has determined that the Army's EIS and its supporting documentation adequately assesses and discloses the environmental impacts of the Proposed Action including evaluation of the establishment of airspace for restricted airspace area R-2603. In March 2013, the Army Environmental Command and Fort Carson released the EIS regarding the Pinon Canyon Maneuver Site (PCMS) Training and Operations located in Colorado. On May 1, 2015, the Army issued their ROD. The Army prepared its EIS and ROD in compliance with NEPA and Army-specific environmental regulations (32 CFR part 651).

Based on the evaluation for potential environmental impact in the Army's EIS, the FAA, as the Cooperating Agency for the Army's proposed action, concluded that adoption of the Army's EIS evaluating the proposed establishment of R-2603 is authorized in accordance with 40 CFR 1506.3, Adoption. Accordingly, FAA adopts the Army's EIS and takes full responsibility for the scope and content that address the FAA's airspace establishment action.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.26 [Amended]

2. Section 73.26 is amended as follows:

* * * * *

R-2603 Fort Carson, CO [New]

Boundaries: Beginning lat. 37°22′30″ N., long. 104°04′47″ W.; to lat. 37°32′27″ N., long. 104°06′32″ W.; to lat. 37°32′27″ N., long. 104°02′15″ W.; to lat. 37°33′21″ N., long. 103°57′55″ W.; to lat. 37°35′59″ N., long. 103°57′50″ W.; to lat. 37°35′57″ N., long. 103°54′40″ W.; to lat. 37°38′10″ N., long. 103°48′47″ W.; to lat. 37°38′32″ N., long. 103°48′43″ W.; to lat. 37°38′28″ N., long. 103°42′40″ W.; to lat. 37°32′46″ N., long. 103°42′46″ W.; to lat. 37°21′10″ N., long. 103°54′41″ W.; to lat. 37°21′15″ N., long. 104°02′35″ W.; thence to the point of beginning.

Designated altitudes: Surface to but not including 10,000 feet Mean Sea Level (MSL).

Time of designation: By NOTAM 24 hours in advance.

Controlling agency: FAA, Denver ARTCC.

Using agency: Commander, U.S. Army, Fort Carson, CO.

Issued in Washington, DC, on October 3, 2017.
Scott M. Rosenbloom,
Acting Manager, Airspace Policy Group.

[FR Doc. 2017-21794 Filed 10-6-17; 8:45 am]

BILLING CODE 4910-13-P